DEPARTMENT OF THE INTERIOR

Bureau of Land Management

[LLNV912000.L10200000.PH0000.LXSS006F 241A; 11-08807; MO# 4500019213; TAS: 14X1109]

Notice of public meeting: Resource Advisory Councils, Nevada

AGENCY: Bureau of Land Management, Interior.

ACTION: Notice of Public Meeting.

SUMMARY: In accordance with the Federal Land Policy and Management Act and the Federal Advisory Committee Act of 1972 (FACA), the Department of the Interior, Bureau of Land Management (BLM) Nevada will hold a joint meeting of its three Resource Advisory Councils (RACs), the Sierra Front-Northwestern Great Basin RAC, the Northeastern Great Basin RAC, and the Mojave-Southern Great Basin RAC in Sparks, Nevada. The meeting is open to the public and a public comment period will be available.

DATES AND TIMES: Thursday, January 20, 2011, from 8 a.m. to 5 p.m. and Friday, January 21, 2011, from 7:30 a.m. to 12:30 p.m. A public comment period will be held early in the afternoon on Thursday, January 20. The time for the comment period will be posted on the Web and the agenda will be available two weeks days prior to the meeting at http://www.blm.gov/nv.

FOR FURTHER INFORMATION CONTACT: Rochelle Francisco, telephone: (775) 861-6588, e-mail: rochelle_francisco@blm.gov.

SUPPLEMENTARY INFORMATION: The three 15-member Nevada councils advise the Secretary of the Interior, through the BLM Nevada State Director, on a variety of planning and management issues associated with public land management in Nevada. The meeting will be held at John Ascuaga's Nugget, 1100 Nugget Avenue, Sparks, Nevada. Agenda topics include a presentation and discussion of accomplishments during 2010 and the outlook for 2011 for the BLM in Nevada; opening remarks and closeout reports of the three RACs; breakout meetings of each group category; breakout meetings of the three RACs; discussion of a recreation subgroup of the existing RACs; and setting of schedules for meetings of the individual RACs for the upcoming year. The public may provide written comments to the three RAC groups or the individual RACs. Individuals who plan to attend and need further information about the meeting or need special assistance such as sign language interpretation or other reasonable accommodation may contact Rochelle Francisco.

Ron Wenker,
State Director, Nevada.

[FR Doc. 2010-31786 Filed 12-16-10; 8:45 am]

BILLING CODE 4310-HC-P